ENVIRONMENTAL PROTECTION AGENCY

[EPA-HQ-OPPT-2016-0111; FRL-9959-71-OEI]

Agency Information Collection Activities; Safer Choice Logo Redesign Consultations; Submitted to OMB for Review and Approval; Comment Request

AGENCY: Environmental Protection Agency (EPA).

ACTION: Notice.

SUMMARY: EPA has submitted the following information collection request (ICR) to the Office of Management and Budget (OMB) for review and approval in accordance with the Paperwork Reduction Act (PRA): “Safer Choice Logo Redesign Consultations” and identified by EPA ICR No. 2487.02 and OMB Control No. 2070-0189. The ICR, which is available in the docket along with other related materials, provides a detailed explanation of the collection activities and the burden estimate that is only briefly summarized in this document. EPA did not receive any comments in response to the previously provided public review opportunity issued in the Federal Register on November 3, 2016 (81 FR 76584). With this submission, EPA is providing an additional 30 days for public review.

DATES: Comments must be received on or before April 5, 2017.

ADDRESSES: Submit your comments, identified by docket identification (ID) number EPA-HQ-OPPT-2016-0111, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Colby Lintner, Environmental Assistance Division (7408M), Office of Pollution Prevention and Toxics, Environmental Protection Agency, 1200 Pennsylvania Ave. NW., Washington, DC 20460-0001; telephone number: (202) 554-1404; email address: TSCA-Hotline@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This ICR is currently scheduled to expire on February 28, 2017. Under OMB regulations, the Agency may continue to conduct or sponsor the collection of information while this submission is pending at OMB.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This information collection supports the consultation process by which the U.S. Environmental Protection Agency (EPA) will refine and enhance its logo redesign and education approach for the Safer Choice Product Recognition Program (Safer Choice program), formerly known as the Design for the Environment Program. The Safer Choice program recognizes products where all ingredients meet EPA's stringent requirements for human health and the environment as found in the Safer Choice Standard. Under the encouragement of the current program, leading companies have already made great progress in developing safer, highly effective chemical products. Since the program's inception in 1997, formulators have been using the program as a portal to OPPT's unique chemical expertise, information resources, and guidance on greener chemistry. Safer Choice partners enjoy Agency recognition, including the use of the Safer Choice label on qualifying products.

The Safer Choice program adopted a new logo in March 2015 in response to stakeholder feedback. Following the launch of the new logo, EPA will conduct consumer surveys to gauge consumer recognition of the new logo and understand how the new logo and educational activities are diffusing over time and changing purchasing decisions. This ICR will enable Safer Choice to collect feedback from consumers through focus groups and online surveys and integrate it into the program, which will help to strengthen the visibility of the logo and program, improve product recognition among formulators and partners, and further promote chemical safety.

Respondents/Affected Entities: Entities potentially affected by this ICR are individual adult consumers who are members of the general population.

Respondent's obligation to respond: Responses to the collection of information are voluntary. Respondents may claim all or part of a notice confidential. EPA will disclose information that is covered by a claim of confidentiality only to the extent permitted by, and in accordance with, the procedures in TSCA section 14 and 40 CFR part 2.

Estimated total number of potential respondents: 2,330.

Frequency of response: On occasion.

Estimated total burden: 777 hours (per year). Burden is defined at 5 CFR 1320.3(b).

Estimated total costs: $29,513 (per year), includes no annualized capital investment or maintenance and operational costs.

Changes in the estimates: There is an increase of 333 hours in the total estimated respondent burden compared with that identified in the ICR currently approved by OMB. This increase reflects an increase in per-response burden estimates for completing the consumer online survey based on experience from the previous ICR. This decrease is partially offset by a reduction in the total number of responses because EPA will conduct fewer online consumer surveys. This change is an adjustment.

Authority: 44 U.S.C. 3501 et seq.

Courtney Kerwin,
Director, Regulatory Support Division.

[FR Doc. 2017-04167 Filed 3-3-17; 8:45 am]

BILLING CODE 6560-50-P